NATIONAL AERONAUTICS AND SPACE ADMINISTRATION

[Notice: (18-061)]

NASA Advisory Council; Science Committee; Meeting

AGENCY: National Aeronautics and Space Administration.

ACTION: Notice of meeting.

SUMMARY: In accordance with the Federal Advisory Committee Act, as amended, the National Aeronautics and Space Administration (NASA) announces a meeting of the Science Committee of the NASA Advisory Council (NAC). The meeting will be held for the purpose of soliciting, from the scientific community and other persons, scientific and technical information relevant to program planning. This Committee reports to the NAC.

DATES: Monday, August 27, 2018, 8:00 a.m.-5:00 p.m.; and Tuesday, August 28, 2018, 8:00 a.m.-2:45 p.m., PDT. Joint meeting with the NAC Human Exploration and Operations Committee on August 28, 2018.

ADDRESSES: NASA Ames Research Center, NASA Ames Conference Center, Building 3, 500 Severyns Road, Moffett Field, CA 94035.

FOR FURTHER INFORMATION CONTACT: Ms. KarShelia Henderson, Science Mission Directorate, NASA Headquarters, Washington, DC 20546, (202) 358-2355, fax (202) 358-2779, or khenderson@nasa.gov.

SUPPLEMENTARY INFORMATION: The meeting will be open to the public up to the seating capacity of the room. This meeting is also available telephonically and by WebEx. You must use a touch-tone phone to participate in this meeting. For August 27, please use the following information: the Science Committee meeting will be held in the Showroom. Any interested person may dial the toll free number 1-888-324-2680 or toll access number 1-517-308-9418, passcode: 8870080, followed by the # sign to participate in the meeting by telephone. The WebEx link is https://nasa.webex.com/; the meeting number is 995 388 125 and the password is SC@Aug2018 (case sensitive). For August 28, please use the following information: the joint Science Committee/Human Exploration and Operations Committee meeting will be held in the Ballroom. Any interested person may dial the toll free number 1-888-324-9238 or toll access number 1-517-308-9132, passcode: 3403297, followed by the # sign to participate in the meeting by telephone. The WebEx link is https://nasa.webex.com/, the meeting number is 996 163 984, and the password is Exploration@2018 (case sensitive). NOTE: If dialing in, please “mute” your telephone.

The agenda for the meeting includes the following topics:

—Lunar Exploration Science

—Science Mission Directorate Overview

—Research and Analysis Charge

—Big Data

For NASA Ames Research Center visitor access, please go through the Main Gate and show a valid government-issued identification (i.e., driver's license, passport, etc.) to the security guard. Inform the security guard that you are attending a meeting in Building 3. Attendees will also be required to sign a register prior to entering the meeting room. It is imperative that the meeting be held on these dates to the scheduling priorities of the key participants.

Carol J. Hamilton,
Acting Advisory Committee Management Officer, National Aeronautics and Space Administration.

[FR Doc. 2018-16965 Filed 8-7-18; 8:45 am]

BILLING CODE 7510-13-P